DEPARTMENT OF STATE

[Delegation of Authority: 424]

Authority To Accept Volunteer Services From Students

By virtue of the authority vested in the Secretary of State by the laws of the United States, including 22 U.S.C. 2651a and 5 U.S.C. 3111 (“Section 3111”), and delegated pursuant to Delegation of Authority 372, dated April 4, 2014, to the extent authorized by law and pursuant to subsection (b) of Section 3111, I hereby delegate the authority of the Secretary to accept for the United States voluntary services of students participating in the Foreign National Student Intern Program managed by the Bureau of Human Resources, Office of Overseas Employment, to the following Department officials:

• All Chiefs of Mission and their designees.

Any official actions within the scope of this delegation taken prior to the effective date of this delegation, by officers in the positions named above, are hereby ratified and continued in effect, according to their terms, until modified, revoked, or superseded by authorized action.

Notwithstanding this delegation of authority, the Secretary, a Deputy Secretary, the Under Secretary of State for Management, and the Director General of the Foreign Service may at any time exercise the authority herein delegated.

This delegation of authority will be published in the Federal Register.

Dated: March 31, 2017.
Arnold Chacon,
Director General of Human Resources.

[FR Doc. 2017-09375 Filed 5-8-17; 8:45 am]

BILLING CODE 4710-15-P